DEPARTMENT OF AGRICULTURE

Forest Service

Plan Revision for the Coronado National Forest, Cochise, Graham, Pima, Pinal, and Santa Cruz Counties, AZ; and Hidalgo County, NM

AGENCY: Forest Service, USDA.

ACTION: Notice of intent to revise the forest plan.

SUMMARY: As directed by the National Forest Management Act, the USDA Forest Service is preparing the Coronado National Forest revised land management plan (Forest Plan) and will also prepare an environmental impact statement (EIS) for this revised Forest Plan. This notice briefly describes the nature of the decision to be made, the proposed action and need for change, and information concerning public participation. It also provides estimated dates for filing the EIS and the names and addresses of the responsible agency official and the individuals who can provide additional information. Finally, this notice briefly describes the applicable planning rule and how work done on the plan revision under the 2008 planning rule will be used or modified for completing this plan revision.

The revised Forest Plan will supersede the current Forest Plan previously approved by the Regional Forester on August 4, 1986. The current Forest Plan has been modified through eleven amendments and three change notices since its approval. Amendments included: Establishing new management areas, adding and modifying management direction for fire, caves, cultural resources, roads, and trails, and adding direction for the Mexican spotted owl, the northern goshawk, and old growth. This current amended Forest Plan will remain in effect until the revised Forest Plan takes effect.

DATES: Comments concerning the need for change provided in this notice will be most useful in the development of the draft revised Forest Plan and draft environmental impact statement if received by February 19, 2010. The agency expects to release a draft revised Forest Plan and draft environmental impact statement for formal comment by fall, 2010 and a final revised Plan and final environmental impact statement by fall, 2011.

ADDRESSES: Send written comments to: Coronado National Forest, Forest Plan Revision Team, 300 W. Congress, Tucson, Arizona 85701. Comments may also be sent via e-mail to: coronado-plan@fs.fed.us.

FOR FURTHER INFORMATION CONTACT: Jennifer Ruyle, Forest Planner, Coronado National Forest, 300 W. Congress, Tucson, AZ 85701, (520) 388-8351, coronado-plan@fs.fed.us. Information on this revision is also available at Coronado National Forest revision Web site, http://www.fs.fed.us/r3/coronado/plan-revision/index.shtmi. Individuals who use telecommunication devices for the deaf (TDD) may call the Federal Information Relay Service (FIRS) at 1-800-877-8339 between 8 a.m. and 8 p.m., Eastern Time, Monday through Friday.

SUPPLEMENTARY INFORMATION:

Name and Address of the Responsible Official

Corbin Newman, Regional Forester, Southwestern Region, 333 Broadway, SE., Albuquerque, NM 87102.

Nature of the Decision To Be Made

The Coronado National Forest (Forest) is preparing an ETS to revise the current Forest Plan. The EIS process is meant to inform the Regional Forester so that he can decide which alternative best meets the need to achieve quality land and resource management under a sustainable multiple-use management concept to meet the diverse needs of people while protecting the Forests' resources, as required by the National Forest Management Act (NFMA) and the Multiple Use Sustained Yield Act (MUYSA).

The revised Forest Plan will describe the strategic intent of managing the Forest into the next 10 to 15 years, and will address the need for change described below. The revised Forest Plan will provide management direction in the form of goals (desired conditions), objectives, suitability determinations, standards, guidelines, and a monitoring plan. It may also make new special area recommendations for wilderness, wild and scenic rivers, research natural areas, and other special areas.

For clarification of the decisions to be made in a Forest Plan, it is useful to identify of the types of decisions that will not be made within it. Authorizations of project level activities are not decisions that are made in the Forest Plan. Project level activities are approved through subsequent project specific decisionmaking.

Need for Change and Proposed Action

The needs for change and proposed actions are organized into five revision topics: 1. Ecosystem Restoration, 2. Safety and Information, 3. Public Access and Travel Patterns, 4. Preservation of Open Space, and 5. Collaboration and Partnerships. For each of the revision topics, there are proposals for the revised Forest Plan to make changes in plan components, as described below:

Revision Topic 1. Ecosystem Restoration

Need for Change

Current Forest Plan direction recognizes and supports the need for species diversity, ecosystem sustainability, and restoration of desired ecosystem characteristics. However, rates and effectiveness of treatments will need to increase if vegetation communities and species diversity are to be sustained. Management direction is needed that integrates restoration of degraded ecosystems, wildlife habitat conservation, fire ecology, hazardous fuels reduction, and current ecological threats, including invasive species and climate change.

Proposed Action

• Develop goal (desired condition) statements that provide adequate guidance for sustaining and restoring ecosystems using new scientific knowledge and updated language.

• Provide direction to guide future vegetation management activities, including burning and mechanical treatments, to move towards or maintain desired conditions.

• Include appropriate standards and guidelines to provide direction to ensure species diversity and viability across the planning area.

• Integrate plan components, where possible, to reflect the interconnectedness between physical and biological resources.

• Include objectives and guidelines that reflect systematic observation and analysis of treatment results, and adaptation of treatment methods based on those results.

• Address the emerging issue of climate change by incorporating adaptive management strategies and describing ecological conditions that are resilient to change.

• Develop Forest Plan components for sustaining aquatic habitats that are at risk.

• Facilitate the understanding of management needs for each mountain range by developing place-based geographic area Forest Plan components.

• Reevaluate and update the list of Management Indicator Species (MIS). MIS are species whose population changes are believed to indicate the effects of management activities.

Revision Topic 2. Safety and Information

Need for Change

The social environment surrounding the Forest has changed significantly since the 1986 Forest Plan was completed. Although the current Forest Plan anticipates negative impacts associated with regional population growth and increased urbanization, it does not identify strategies for sustaining forest resources and experiences affected by these pressures. Impacts from illegal activity associated with the international border region are not addressed at all. Improved management direction is needed that leads to increased public awareness about the impacts of recreational activities, and of the hazards associated with the border region.

Proposed Action

• Develop Land Use Zones based on the suitability of various recreational uses to guide management that will sustain the Forest resources and experiences in the face of changes in population, behavior, and increased development.

• Develop place-based geographic area plan components to guide management to address the unique challenges in the international border region.

Revision Topic 3. Public Access and Travel Patterns

Need for Change

Rapid growth of populations in Arizona and New Mexico has led to a much greater demand for public access to National Forest System lands. The need for additional permanent legal access to the Forest is identified as an issue in the current Forest Plan. Although progress has been made toward the goal of increasing the number of permanent legal access points, the issue has become more complicated. Updated management direction is needed that emphasizes a coordinated, collaborative approach to establishing adequate and appropriate permanent legal access for public and administrative use.

Proposed Action

• Update goals (desired conditions) and objectives to emphasize and prioritize the establishment of permanent legal access for public and administrative use.

Revision Topic 4. Preservation of Open Space

Need for Change

Preservation of open space is a particularly important land use issue given both the public's desire to maintain the “rural character” of southern Arizona and New Mexico lands and the need to accommodate rapidly growing populations and municipalities. This issue is not addressed in the current Forest Plan. Management direction is needed that addresses the sustainability of undeveloped landscapes within the Forest boundary and emphasizes coordination with adjacent landowners to protect open space.

Proposed Action

• Develop desired condition statements that reflect the role of Forest management in preserving open space.

• Develop guidelines, based on the Scenery Management System, to protect scenic natural landscapes.

• Develop plan components that are reflective of county and community land use planning efforts.

Revision Topic 5. Collaboration and Partnerships

Need for Change

In recent years the Forest Service has placed increasing priority on the social relationships between National Forest personnel and members of surrounding communities. The current Forest Plan does not reflect this priority. Management direction is needed that recognizes the importance of collaboration and partnerships as tools for achieving both Forest Plan and community goals.

Proposed Action

• Develop desired conditions that reflect outcomes defined through collaborative processes.

• Integrate management direction for traditional uses and cultural resources throughout the revised Forest Plan. Reference: Comprehensive Evaluation Report (http://www.fs.fed.us/r3/coronado/plan-revision/plan-revision-documents.shtml)

Public Involvement

Public involvement with the Plan revision process began in spring of 2005, when focus groups were conducted in locations across southeastern Arizona to quantify attitudes, values and beliefs toward Coronado NF lands. In April of 2006, Regional Forester hosted a question and answer session for the public in Tucson to initiate the plan revision process for the National Forests in Arizona. Then, in June 2006, six public workshops were held in communities around the Forest with the purpose of establishing relationships and determining the needs for changing the current Forest Plan. These were followed by workshops in September 2006, with the purpose of prioritizing the previously identified needs for change. In September and October 2007, seven workshops, again geographically distributed, were held to begin developing “Desired Condition Statements” based on the previously identified priority needs for change. Most recently, in November 2008, seven open house events were held in geographic locations across the Forest with the purpose of presenting initial draft Forest Plan products to the public, including draft Desired Condition Statements and draft Land Use Zone maps. Future public meetings are anticipated to provide a discussion forum for the draft revised Plan as it is developed. Future formal public comment opportunities will occur when a draft revised Plan is available for review (anticipated to be in the spring of 2010), and when a proposed Plan and Draft Environmental Impact Statement are available for review (anticipated to be in the fall of 2010).

It is important that reviewers provide their comments at such times and in such a way that they are useful to the Agency's preparation of the revised plan and the EIS. Therefore, comments on the proposed action and need for change described in this notice will be most valuable if received by February 19, 2010, and they should clearly articulate the reviewers' concerns. The submission of timely and specific comments can affect a reviewer's ability to participate in subsequent administrative or judicial review. At this time, we anticipate using the 2000 planning rule pre-decisional objection process (36 CFR 219.32) for administrative review. Comments received in response to this solicitation, including the names and addresses of those who comment will be part of the public record. Comments submitted anonymously will be accepted and considered.

Applicable Planning Rule

Preparation of the revised plan was underway when the 2008 National Forest System land management planning rule was enjoined on June 30, 2009, by the United States District Court for the Northern District of California (Citizens for Better Forestry v. United States Department of Agriculture, 632 F. Supp. 2d 968 (N.D. Cal. June 30, 2009)). On December 18, 2009, the Department reinstated the previous planning rule, commonly known as the 2000 planning rule in the Federal Register (Federal Register, Volume 74, No. 242, Friday, December 18, 2009, pages 67059 through 67075). The transition provisions of the reinstated rule (36 CFR 219.35 and appendices A and B) allow use of the provisions of the National Forest System land and resource management planning rule in effect prior to the effective date of the 2000 rule (November 9, 2000), commonly known as the 1982 planning rule, to amend or revise Forest Plans. The Coronado National Forest has elected to use the provisions of the 1982 planning rule, including the requirement to prepare an EIS, to complete its plan revision.

The Coronado National Forest commenced activities preparing for revising the Plan in the spring of 2005. Plan revision was formally initiated under the 2008 planning rule on June 22, 2009, with publication of a Notice of Initiation to Revise the Coronado National Forest's Land and Resource Management Plan (74 FR 29467, June 22, 2009). Although the 2008 planning rule is no longer in effect, information gathered prior to the court's injunction is useful for completing the plan revision using the provisions of the 1982 planning rule. The Coronado National Forest has concluded that the following material developed during the plan revision process to date is appropriate for continued use in the revision process:

• The inventory and evaluation of potential wilderness areas that were previously underway, are consistent with appropriate provisions of the 1982 planning rule, and will be brought forward into this plan revision process.

• The Comprehensive Evaluation Report (CER) that was published in April of 2009 after substantial public collaboration forms the basis for need to change the existing Forest Plan and the proposed action for the plan revision.

• The CER Supplementary document, which augmented the CER with additional information to conform with the Analysis of Management Situation need for change provisions of the 1982 planning rule.

• The Ecological Sustainability Report that was completed in February 2009 and will continue to be used as a reference in the planning process as appropriate to those items in conformance with the 2000 planning rule transition language and 1982 planning rule provisions. This is scientific information and is not affected by the change of planning rule. This information will be updated with any new available information.

• The Social and Economic Sustainability Report that was completed in November 2008 is not affected by the change in planning rule and will continue to be used as a reference in the planning process. This information will be updated with any new available information.

All of these background documents, and more, can be found at http://www.fs.fed.us/r3/coronado/plan-revision/plan-revision-documents.shtml. These documents are not affected by the change of planning rule. As necessary or appropriate, the above listed material will be further adjusted as part of the planning process using the provisions of the 1982 planning rule.

(Authority: 16 U.S.C. 1600-1614; 36 CFR 219.35 (74 FR 67073-67074))

Dated: January 11, 2010.
Jeanine Derby,
Forest Supervisor.

[FR Doc. 2010-1162 Filed 1-26-10; 8:45 am]

BILLING CODE 3410-11-M